NATIONAL SCIENCE FOUNDATION

National Artificial Intelligence Research Resource Task Force; Notice of Meeting

In accordance with the Federal Advisory Committee Act (Pub. L. 92-463, as amended), the National Science Foundation (NSF) announces the following meeting.

Name and Committee Code: National Artificial Intelligence Research Resource Task Force (84629).

Date and Time: September 12, 2022, 11 a.m. to 5 p.m. EDT.

Place:Virtual meeting attendance only; to attend the virtual meeting, please send your request for the virtual meeting link to the following email: cmessam@nsf.gov.

Type of Meeting: Open.

Contact Person: Brenda Williams, National Science Foundation, 2415 Eisenhower Avenue, Alexandria, VA 22314; Telephone: 703-292-8900; email: bwilliam@nsf.gov.

Purpose of Meeting: The Task Force shall investigate the feasibility and advisability of establishing and sustaining a National Artificial Intelligence Research Resource; and propose a roadmap detailing how such resource should be established and sustained.

Agenda: In this meeting, the Task Force will receive readouts from working-group discussions held on the topics of security controls and the user portal; resource allocation, usage policies, and evaluation processes; and associated issues of environmental sustainability, international collaboration, and legal considerations. The Task Force will also discuss related Federal initiatives and explore how the NAIRR could complement and interconnect with current and future efforts to provide data and computational resources to America's researchers.

Dated: August 5, 2022.
Crystal Robinson,
Committee Management Officer.

[FR Doc. 2022-17227 Filed 8-10-22; 8:45 am]

BILLING CODE 7555-01-P